ENVIRONMENTAL PROTECTION AGENCY

40 CFR Part 180

[EPA-HQ-OPP-2020-0336; FRL-9525-02-OCSPP]

Methoxyfenozide; Pesticide Tolerances; Correction

AGENCY: Environmental Protection Agency (EPA).

ACTION: Correcting amendment.

SUMMARY: EPA issued a final rule in the Federal Register of October 11, 2022, establishing tolerances for residues of methoxyfenozide in or on multiple commodities requested by the Interregional Research Project Number 4 (IR-4) under the Federal Food, Drug, and Cosmetic Act (FFDCA). That document inadvertently omitted an instruction to add a tolerance for the commodity “bean, mung, dry seed”. This document corrects the final regulation.

DATES: Effective on January 22, 2024.

ADDRESSES: The docket for this action, identified by docket identification (ID) number EPA-HQ-OPP-2020-0336, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room and the OPP Docket is (202) 566-1744. Please review the visitor instructions and additional information about the docket available at https://www.epa.gov/dockets.

FOR FURTHER INFORMATION CONTACT: Charles Smith, Director, Registration Division (7505T), Office of Pesticide Programs, Environmental Protection Agency, 1200 Pennsylvania Ave. NW, Washington, DC 20460-0001; main telephone number: (202) 566-1030; email address: RDFRNotices@epa.gov.

SUPPLEMENTARY INFORMATION:

I. Does this action apply to me?

The Agency included in the October 11, 2022, final rule a list of those who may be potentially affected by this action.

II. What does this correction do?

EPA issued a final rule in the Federal Register of October 11, 2022 (87 FR 61259) (FRL-9525-01-OCSPP), that established tolerances for residues of methoxyfenozide in or on multiple commodities and removed tolerances for certain other commodities in response to a petition filed by IR-4. EPA inadvertently omitted an instruction directing the Federal Register to add an entry to the table in paragraph (a)(1) of 40 CFR 180.544 for the commodity “bean, mung, dry seed”. This document corrects that omission and adds the commodity “bean, mung, dry seed” to the table in paragraph (a)(1) of 40 CFR 180.544.

III. Why is this correction issued as a final rule?

Section 553 of the Administrative Procedure Act (APA) (5 U.S.C. 553(b)(3)(B)) provides that, when an agency for good cause finds that notice and public procedure are impracticable, unnecessary, or contrary to the public interest, the agency may issue a final rule without providing notice and an opportunity for public comment. EPA has determined that there is good cause for making this correction final without prior proposal and opportunity for comment, because EPA inadvertently omitted an instruction to the Federal Register to add a tolerance for the commodity “bean, mung, dry seed”. EPA finds that this constitutes good cause under 5 U.S.C. 553(b)(3)(B).

IV. Do any of the statutory and Executive order review apply to this action?

No. For a detailed discussion concerning the statutory and Executive order review refer to Unit VI. of the October 11, 2022, final rule.

V. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 180

Environmental protection, Administrative practice and procedure, Agricultural commodities, Pesticides and pests, Reporting and recordkeeping requirements.

Dated: January 16, 2024.
Charles Smith,
Director, Registration Division, Office of Pesticide Programs.

Therefore, for the reasons stated in the preamble, 40 CFR part 180 is corrected by making the following correcting amendment:

PART 180—TOLERANCES AND EXEMPTIONS FOR PESTICIDE CHEMICAL RESIDUES IN FOOD

1. The authority citation for part 180 continues to read as follows:

Authority: 21 U.S.C. 321(q), 346a and 371.

2. In § 180.544, amend table 1 to paragraph (a)(1) by adding, in alphabetical order, an entry for the commodity “bean, mung, dry seed” to read as follows:

§ 180.544 Methoxyfenozide; tolerances for residues.

(a) * * *

(1) * * *

Table 1 to Paragraph (a)(1)
Commodity | Parts per million
* * * * *
Bean, mung, dry seed | 0.5
* * * * *

* * * * *

[FR Doc. 2024-01015 Filed 1-19-24; 8:45 am]

BILLING CODE 6560-50-P